DEPARTMENT OF THE INTERIOR

Fish and Wildlife Service

[FWS-R5-ES-2008-N0281; 50120-1112-0000-F2]

Incidental Take Permit Application for Pleasant Rifts Housing Development, Dorchester County, MD

AGENCY: Fish and Wildlife Service, Interior.

ACTION: Notice of availability: Draft environmental assessment and habitat conservation plan; receipt of application for an incidental take permit; request for comments.

SUMMARY: This notice advises the public that RB & JH Properties, LLC (applicant) has applied to the U.S. Fish and Wildlife Service (Service) for an incidental take permit under Section 10(a)(1)(B) of the Endangered Species Act of 1973 (Act), as amended. The proposed permit would authorize incidental take of the endangered Delmarva fox squirrel (Sciurus niger cinereus) (DFS) that is likely to occur on the Pleasant Rifts Housing Development, a 29.6-acre property owned by the applicant near Secretary, in Dorchester County, Maryland. We also announce the availability for public comment of a draft habitat conservation plan (HCP) prepared under the Act in support of the permit application and a draft environmental assessment (EA) for the action prepared in accordance with requirements of the National Environmental Policy Act (NEPA).

DATES: All comments from interested parties must be received on or before December 1, 2008.

ADDRESSES: Please address written comments to Field Office Supervisor, Chesapeake Bay Field Office, U.S. Fish and Wildlife Service, 177 Admiral Cochrane Drive, Annapolis, Maryland 21401. You may also send comments by facsimile at 410-269-0832.

FOR FURTHER INFORMATION CONTACT: Cherry Keller, Fish and Wildlife Biologist, U.S. Fish and Wildlife Service (see ADDRESSES above), telephone: 410-573-4532.

SUPPLEMENTARY INFORMATION:

Availability of Documents

The permit application materials, which include a draft HCP and a draft EA, are available for public inspection, by appointment between the hours of 8 a.m. and 5 p.m. at the Chesapeake Bay Field Office (see ADDRESSES above). You may also request copies of the documents by contacting the Service's Chesapeake Bay Field Office (see FOR FURTHER INFORMATION CONTACT above). Finally, you may also visit the Chesapeake Bay Field Office Web site (http://www.fws.gov/chesapeakebay/) to view the documents.

Background

Section 9 of the Act and Federal regulations prohibit the “take” of fish and wildlife species listed as endangered or threatened. Take of federally listed fish and wildlife is defined under the Act to include “harass, harm, pursue, hunt, shoot, wound, kill, trap, capture, or collect, or to attempt to engage in any such conduct.” The Service may, under limited circumstances, issue permits to authorize incidental take (i.e., take that is incidental to, and not the purpose of, the carrying out of an otherwise lawful activity). Regulations governing incidental take permits for threatened and endangered species are found in 50 CFR 17.32 and 17.22.

The applicant proposes to subdivide and develop the Pleasant Rifts Housing Development on a 29.6-acre property that contains 19.8 acres of mature forest habitat. The property will be developed into 13 single-family residences, and 4.83 acres of mature forest will be cleared. Development activities on, and subsequent residential uses of, the property may result in the death of, or harm to, DFS through the loss and degradation of habitat.

The HCP will minimize take of DFS by minimizing the amount of clearing and by retaining 14.97 acres of suitable forest habitat on the project site. The habitat is retained through a declaration of covenants and restrictions, and existing State environmental requirements, which have incidental benefits to DFS and its habitat. It also commits to secure off-site compensatory mitigation for the forest clearing and degradation of this project through permanent protection of 39.2 acres of DFS habitat in close proximity to the Blackwater National Wildlife Refuge, which supports a large population of DFS. The HCP also limits activities and uses of DFS habitat retained on the site, provides for distribution of educational materials regarding DFS to construction personnel and homeowners, requires property signage to permanently designate the boundary of the authorized forest clearing area, and provides for the establishment of a homeowners' association to implement, coordinate, monitor, and enforce the provisions of the HCP following project-related construction. Finally, the HCP requires that any subsequent homeowner be subject to the provisions of the HCP and responsible for its implementation. The EA considers the environmental consequences of three alternatives, including the proposed action. The proposed action alternative is issuance of the incidental take permit and implementation of the HCP as submitted by the applicant.

Public Review

The Service invites the public to review the HCP and EA during a 60-day public comment period (see DATES). Before including your address, phone number, electronic mail address, or other personal indentifying information in your comment, you should be aware that your entire comment—including your personal identifying information—may be made publicly available at any time. While you can ask us in your comment to withhold your personal indentifying information from public review, we cannot guarantee that we will be able to do so.

This notice is provided pursuant to section 10(a) of the Act and the regulations for implementing NEPA, as amended (40 CFR 1506.6). We will evaluate the application, associated documents, and comments submitted thereon to determine whether the application meets the requirements of NEPA regulations and section 10(a) of the Act. If we determine that those requirements are met, we will issue a permit to the applicant for the incidental take of the DFS.

Dated: October 7, 2008.
Michael G. Thabault,
Acting Regional Director, Region 5.

[FR Doc. E8-24819 Filed 10-16-08; 8:45 am]

BILLING CODE 4310-55-P